NATIONAL FOUNDATION ON THE ARTS AND THE HUMANITIES

Public Availability of the National Endowment for the Humanities FY 2011 Service Contract Inventory

AGENCY: National Endowment for the Humanities.

ACTION: Notice of public availability of FY 2011 service contract inventory.

SUMMARY: In accordance with Section 743 of Division C of the Consolidated Appropriations Act of 2010 (Pub. L. 111-117), the National Endowment for the Humanities (NEH) is publishing this notice to advise the public of the availability of the FY 2011 Service Contract Inventory. This inventory provides information on service contract actions over $25,000 that were made in FY 2011. The information is organized by function to show how contracted resources are distributed throughout the agency. The inventory has been developed in accordance with guidance issued on November 5, 2010 and December 19, 2011 by the Office of Management and Budget's Office of Federal Procurement Policy (OFPP). OFPP's guidance is available at http://www.whitehouse.gov/omb/procurement-service-contract-inventories. NEH has posted its inventory and a summary of the inventory on the NEH homepage at the following link: http://www.neh.gov/whoweare/administrative.html.

FOR FURTHER INFORMATION CONTACT: Barry Maynes, Director, Administrative Services Office at 202-606-8233 or bmaynes@neh.gov.

Dated: March 6, 2012.
Michael P. McDonald,
General Counsel and Federal Register Liaison Officer.

[FR Doc. 2012-5836 Filed 3-9-12; 8:45 am]

BILLING CODE 7537-01-P